DEPARTMENT OF THE INTERIOR

Bureau of Land Management

[CO-200-1220-MA]

Change to Shooting Closure Order and Closure Order for Motor Vehicle Travel on Public Lands in Fremont County, CO

AGENCY: Bureau of Land Management, Interior.

ACTION: Change to shooting closure order, and closure order.

SUMMARY: The BLM Royal Gorge Field Office (BLM or “we”) is adjusting the boundary of the recreational target shooting closure established in 1995 in the Garden Park Fossil Area, located in Fremont County, Colorado (60 FR 26452). The boundary adjustment is necessary to enhance public safety, to protect a power line right-of-way, and to protect a range improvement. Approximately 150 acres will be added to the closure area and approximately 20 acres will be excluded from the original recreational target shooting closure area and opened to recreational target shooting.

Also, we are making the following closures: We are temporarily closing approximately 40 acres to all types of motor vehicle travel to allow for reclamation of damaged soils and vegetation. We are permanently closing approximately two miles of two track roads to all types of motor vehicle travel to enhance public safety in areas adjacent to recreational target shooting activity in the Garden Park Fossil Area.

DATES: The shooting closure change and motor vehicle travel closure will be effective upon publication. The temporary motor vehicle travel closure will remain in effect until April 1, 2005, to allow for successful reclamation.

ADDRESSES: You may obtain copies of the map and details of the boundary adjustment and closure from the Field Manager, BLM Royal Gorge Field Office, 3170 East Main Street, Canon City, CO 81212; telephone (719) 269-8500.

FOR FURTHER INFORMATION CONTACT: Leah Quesenberry, Interpretive Specialist, or Diana Kossnar, Outdoor Recreation Planner, at the address and phone number listed above.

SUPPLEMENTARY INFORMATION:

Background

BLM administers approximately 3,000 acres of public land in the Garden Park Fossil Area, located 5 miles north of Canon City, CO. Target shooting is one of many public uses in the area. The area includes nationally significant paleontological and historic sites and the Gold Belt Tour National Scenic Byway. Private lands with residential and agricultural developments adjoin the area. In 1995, approximately 1,840 acres of public land in this area were closed to recreational target shooting to enhance public safety. This closure was accomplished through an extensive public process. Public meetings were held to address public safety and resource protection concerns. Stakeholders involved in developing the closure proposal included Fremont County Commissioners, target shooting enthusiasts, residents of the adjoining private lands, public land grazing permit holders, and the Garden Park Paleontology Society.

Authority: BLM issues this order under the authority of 43 CFR 8364.1, Closure and restriction orders, and 43 CFR 8341.2 (a), Special rules.

Reasons for Closures

This notice adjusts the boundary of the closure area established in 1995, to address additional public safety concerns. The primary public safety concern is the on-going vandalism of an existing high voltage power line by recreational target shooters. The power line, owned by WestPlains Energy Corporation, provides power to Cripple Creek and Victor, Colorado. Specific concerns include the cost of repairing damage to the power line caused by recreational target shooting, the possibility that this vandalism will result in a major power outage in Cripple Creek and Victor, and the dangers (electrocution, fire) posed by vandalism of live high voltage power lines in an area that is heavily used by the public.

Affected Lands

The public lands affected by this boundary adjustment and containing the closed areas and roads are identified as follows:

Sixth Principal Meridian, Colorado

T.17S., R.70W., Sections 28, 33, & 34.

Map

Notice of this closure and a detailed map will be posted at the Royal Gorge Field Office.

Exceptions

This closure does not apply to emergency, law enforcement, and Federal or other government vehicles while being used for official or emergency purposes, or to any other vehicle whose use is expressly authorized or otherwise officially approved by BLM.

Penalties

Violation of this order is punishable by imprisonment for up to 12 months and/or a fine as defined in 18 U.S.C. 3571.

Roy L. Masinton,
Field Manager.

[FR Doc. 02-11087 Filed 5-3-02; 8:45 am]

BILLING CODE 4310-JB-P